DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

[Docket Number FRA-2006-26756]

Applicant: Canadian National Railway, Mr. E. L. Harris, Executive Vice President, Operations, 10004-104th Avenue, Floor 24, Edmonton, Alberta T5J 0K2.

Canadian National Railway (CN) seeks relief from the requirements of the rules, standards, and instructions set out in CFR 236.410, as it relates to the requirement for an entering signal or electric switch lock to enter the main track in centralized traffic control territory at a hand-operated switch. CN believes that the precepts of 49 CFR 236.410 are based on an outdated ideology that concerned itself with then-new signal technology, a less-than-robust communication network, and/or rail traffic controller (RTC) system that did not have today's abilities for checking and blocking regarding block occupancy movements. CN believes that other jurisdictions have acknowledged the redundancy of the electric switch lock and provided for their removal and the reliance on the RTC, who is the authority for track occupancy on his or her respective territory. CN therefore requests exemption from the requirements of 49 CFR 236.410 in the territories recently identified as a traffic control system, which was previously identified as ABS/Rule 512B. This exemption would involve approximately 80 hand-operated switches within these areas.

Any interested party desiring to protest the granting of an application shall set forth specifically the grounds upon which the protest is made and include a concise statement of the interest of the party in the proceeding. Additionally, one copy of the protest shall be furnished to the applicant at the address listed above.

All communications concerning this proceeding should be identified by Docket Number (FRA 2006-26756) and must be submitted to the Docket Clerk, DOT Central Docket Management Facility, Room PI-401, 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on February 23, 2007.
Grady C. Cothen, Jr.,
Deputy Associate Administrator for Safety Standards and Program Development.

[FR Doc. E7-3480 Filed 2-27-07; 8:45 am]

BILLING CODE 4910-06-P